DEPARTMENT OF TRANSPORTATION

Federal Aviation Administration (FAA)

Notice of Opportunity for Public Comment on Release of Federally Obligated Land at the Brunswick Golden Isles Airport (BQK), Brunswick, GA

AGENCY: Federal Aviation Administration (FAA), DOT.

ACTION: Notice.

SUMMARY: The FAA proposes to rule and invites public comment on the release of land at the Brunswick Golden Isles Airport(BQK), Brunswick, Georgia.

DATES: Comments must be received on or before August 31, 2023.

ADDRESSES: Documents are available for review by prior appointment at the following location: Atlanta Airports District Office, Attn: Joseph Robinson, Planner, 1701 Columbia Ave., Suite 220, College Park, Georgia 30337-2747, Telephone: (404) 305-6749.

Comments on this notice may be mailed or delivered in triplicate to the FAA at the following address: Atlanta Airports District Office, Attn: Joseph Robinson, Planner, 1701 Columbia Ave., Suite 220, College Park, Georgia 30337-2747.

In addition, one copy of any comments submitted to the FAA must be mailed or delivered to Robert Burr, Executive Director, Glynn County Airport Comission at the following address: 295 Aviation Parkway, Suite 205, Brunswick, GA 31525.

FOR FURTHER INFORMATION CONTACT: Joseph Robinson, Airport Planner, Atlanta Airports District Office, 1701 Columbia Ave., Suite 220, College Park, Georgia 30337-2747, (404) 305-6749. The application may be reviewed in person at this same location.

SUPPLEMENTARY INFORMATION: The FAA invites public comment on the Glynn County Airport Comission request to release and sell five tracts of land consisting of approximately 51.492 acres of airport property at the Brunswick Golden Isles Airport (BQK) under the provisions of 49 U.S.C. 47107(h)(2). On June 27, 2023, the FAA determined the request to release property at the Brunswick Golden Isles Airport (BQK) submitted by the Sponsor meets the procedural requirements of the Federal Aviation Administration and the release of the property does not and will not impact future aviation needs at the airport. The FAA may approve the request, in whole or in part, no sooner than thirty days after the publication of this notice.

The following is a brief overview of the request:

The Brunswick Golden Isles Airport (BQK) is proposing the release of airport property containing 51.492 acres, more or less. The property was aquired via surplus property transfer on April 18, 1977. The purpose of this request is to permanently release the federal obligations on the property given there is no potential for future aviation use, as demonstrated by the Airport Layout Plan. In accordance with 49 U.S.C. 47107(c)(2)(B)(i) and (iii), the airport will receive fair market value for the property, which will be subsequently reinvested in another eligible airport improvement project for aviation use.

Any person may inspect, by appointment, the request in person at the FAA office listed above under FOR FURTHER INFORMATION CONTACT. Issued in College Park, Georgia on July 27, 2023.

Joseph Parks Preston,
Manager, Atlanta Airports District Office, Southern Region.

[FR Doc. 2023-16254 Filed 7-31-23; 8:45 am]

BILLING CODE 4910-13-P